DEPARTMENT OF TRANSPORTATION

Federal Aviation Administration

14 CFR Part 39

[Docket No. FAA-2021-0261; Project Identifier MCAI-2020-01502-T; Amendment 39-21753; AD 2021-20-15]

RIN 2120-AA64

Airworthiness Directives; Airbus SAS Airplanes

AGENCY: Federal Aviation Administration (FAA), Department of Transportation (DOT).

ACTION: Final rule.

SUMMARY: The FAA is superseding Airworthiness Directive (AD) 2019-19-06, which applied to certain Airbus SAS Model A330-202, -243, -243F, -302, -323, and -343 airplanes. AD 2019-19-06 required an inspection to determine the part number and serial number of the slat geared rotary actuators (SGRAs), and replacement of each affected SGRA with a serviceable part. This AD continues to require replacement of each affected SGRA with a serviceable part, expands the applicability to include all airplanes on which the affected part may be installed, and also prohibits installation of an affected part; as specified in a European Union Aviation Safety Agency (EASA) AD, which is incorporated by reference. This AD was prompted by a report that cracks have been found within the ring gears of the SGRAs due to a change in the manufacturing process and inadequate post-production non-destructive testing for potential cracking, and a determination that the requirements of AD 2019-19-06 may not ensure the permanent removal from service of affected SGRAs. The FAA is issuing this AD to address the unsafe condition on these products.

DATES: This AD is effective November 18, 2021.

The Director of the Federal Register approved the incorporation by reference of a certain publication listed in this AD as of November 18, 2021.

ADDRESSES: For material incorporated by reference (IBR) in this AD, contact EASA, Konrad-Adenauer-Ufer 3, 50668 Cologne, Germany; telephone +49 221 8999 000; email ADs@easa.europa.eu; internet www.easa.europa.eu. You may find this IBR material on the EASA website at https://ad.easa.europa.eu. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2021-0261.

Examining the AD Docket

You may examine the AD docket on the internet at https://www.regulations.gov by searching for and locating Docket No. FAA-2021-0261; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Vladimir Ulyanov, Aerospace Engineer, Large Aircraft Section, International Validation Branch, FAA, 2200 South 216th St., Des Moines, WA 98198; telephone and fax 206-231-3229; email vladimir.ulyanov@faa.gov.

SUPPLEMENTARY INFORMATION:

Background

EASA, which is the Technical Agent for the Member States of the European Union, has issued EASA AD 2020-0245, dated November 9, 2020 (EASA AD 2020-0245) (also referred to as the Mandatory Continuing Airworthiness Information, or the MCAI), to correct an unsafe condition for all Airbus A330-201, A330-202, A330-203, A330-223, A330-223F, A330-243, A330-243F, A330-301, A330-302, A330-303, A330-321, A330-322, A330-323, A330-341, A330-342, A330-343, A330-743L, A330-841, and A330-941 airplanes. EASA AD 2020-0245 supersedes EASA AD 2019-0093 (which corresponds to FAA AD 2019-19-06, Amendment 39-19742 (84 FR 51960, October 1, 2019) (AD 2019-19-06)). Model A330-743L airplanes are not certificated by the FAA and are not included on the U.S. type certificate data sheet; this AD therefore does not include those airplanes in the applicability.

The FAA issued a notice of proposed rulemaking (NPRM) to amend 14 CFR part 39 to supersede AD 2019-19-06. AD 2019-19-06 applied to certain Airbus SAS Model A330-202, -243, -243F, -302, -323, and -343 airplanes. The NPRM published in the Federal Register on April 7, 2021 (86 FR 17995). The NPRM was prompted by a report that cracks have been found within the ring gears of the SGRAs due to a change in the manufacturing process and inadequate post-production non-destructive testing for potential cracking, and a determination that the requirements of AD 2019-19-06 may not ensure the permanent removal from service of affected SGRAs. The NPRM proposed to continue to require replacement of each affected SGRA with a serviceable part, would expand the applicability to include all airplanes on which the affected part may be installed, and would also prohibit installation of an affected part, as specified in EASA AD 2020-0245.

The FAA is issuing this AD to address cracking of an SGRA, which, in combination with an independent failure on the second SGRA of the same slat surface, could lead to an uncontrolled movement of the affected slat surface in flight, or detachment of the slat surface, and could possibly result in damage to the stabilizers and reduced controllability of the airplane. See the MCAI for additional background information.

Comments

The FAA gave the public the opportunity to participate in developing this final rule. The following presents the comments received on the NPRM and the FAA's response to each comment. The Air Line Pilots Association, International (ALPA) expressed support for the NPRM.

Request To Clarify Service Bulletin Reference

Delta Air Lines (DAL) requested clarification of the reference to “the SB” in the statement “in accordance with the instructions of the SB” in EASA AD 2020-0245. DAL gave no justification for the request.

The FAA agrees to clarify. The Definitions section of EASA AD 2020-0245 clearly defines “The SB” and “The Liebherr SB.” Therefore, “the SB” in the specified statement refers to Airbus Service Bulletin A330-27-3233, dated March 7, 2019. This AD has not been changed as a result of this comment.

Request To Add Paragraph Identifying Certain Parts as Not Affected

DAL requested that paragraph (h)(5) be added to the proposed AD to specify that “units listed [in] Liebherr SB 926C-27-01 Table 1 are not considered an affected part.” DAL refers to the Note that accompanies Table 1 in the Liebherr Service Bulletin 926C-27-01, dated December 18, 2018 (Liebherr SB 926C-27-01), as justification for the request.

The FAA disagrees with the request to add the specified paragraph because it is an incorrect statement. Table 1 in Liebherr SB 926C-27-01 is titled “Affected Serial Numbers” and contains the list of three different serial number ranges. Parts with serial numbers included in those ranges are considered affected parts, except for parts mentioned in the Note, that is, parts already inspected during the final assembly line that are specifically marked as “WOI-01” on the identification plate. This is consistent with the definition of “Affected part” in the MCAI, which identifies the serial numbers in the table as affected parts “except those that have passed (no defects found) an inspection, or have been repaired, as applicable, in accordance with the instructions of the Liebherr SB.” This AD has not been changed with regard to this request.

Change to This Final Rule

The FAA has revised the format of paragraph (h)(2) of this AD.

Conclusion

The FAA reviewed the relevant data, considered the comments received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related Service Information Under 1 CFR Part 51

EASA AD 2020-0245 describes procedures for replacing each affected SGRA, and specifies a prohibition against installation of an affected part.

This material is reasonably available because the interested parties have access to it through their normal course of business or by the means identified in the ADDRESSES section.

Costs of Compliance

The FAA estimates that this AD affects 123 airplanes of U.S. registry. The FAA estimates the following costs to comply with this AD:

Estimated Costs for Required Actions
Action | Labor cost | Parts cost | Cost per product | Cost on U.S. operators
Retained action from AD 2019-19-06 | 17 work-hours × $85 per hour = $1,445 | * $0 | $1,445 | $177,735.
New actions | Up to 15 work-hours × $85 per hour = Up to $1,275 | * 0 | Up to $1,275 | Up to $156,825.
* The FAA has received no definitive data on which to base the cost estimates for the parts specified in this AD.

According to the manufacturer, some or all of the costs of this AD may be covered under warranty, thereby reducing the cost impact on affected operators. The FAA does not control warranty coverage for affected operators. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-19-06, Amendment 39-19742 (84 FR 51960, October 1, 2019); and

b. Adding the following new AD:

2021-20-15 Airbus SAS: Amendment 39-21753; Docket No. FAA-2021-0261; Project Identifier MCAI-2020-01502-T.

(a) Effective Date

This airworthiness directive (AD) is effective November 18, 2021.

(b) Affected ADs

This AD replaces AD 2019-19-06, Amendment 39-19742 (84 FR 51960, October 1, 2019) (AD 2019-19-06).

(c) Applicability

This AD applies to all Airbus SAS airplanes specified in paragraphs (c)(1) through (5) of this AD, certificated in any category.

(1) Model A330-201, -202, -203, -223, and -243 airplanes.

(2) Model A330-223F and -243F airplanes.

(3) Model A330-301, -302, -303, -321, -322, -323, -341, -342, and -343 airplanes.

(4) Model A330-841 airplanes.

(5) Model A330-941 airplanes.

(d) Subject

Air Transport Association (ATA) of America Code 27, Flight controls.

(e) Reason

This AD was prompted by a report that cracks have been found within the ring gears of the slat geared rotary actuators (SGRAs) due to a change in the manufacturing process and inadequate post-production non-destructive testing for potential cracking, and a determination that the requirements of AD 2019-19-06 may not ensure the permanent removal from service of affected SGRAs. The FAA is issuing this AD to address cracking of an SGRA, which, in combination with an independent failure on the second SGRA of the same slat surface, could lead to an uncontrolled movement of the affected slat surface in flight, or detachment of the slat surface, and could possibly result in damage to the stabilizers and reduced controllability of the airplane.

(f) Compliance

Comply with this AD within the compliance times specified, unless already done.

(g) Requirements

Except as specified in paragraph (h) of this AD: Comply with all required actions and compliance times specified in, and in accordance with, European Union Aviation Safety Agency (EASA) AD 2020-0245, dated November 9, 2020 (EASA AD 2020-0245).

(h) Exceptions to EASA AD 2020-0245

(1) Where EASA AD 2020-0245 refers to May 10, 2019 (the effective date of EASA AD 2019-0093), this AD requires using November 5, 2019 (the effective date of AD 2019-19-06).

(2) Where paragraph (1) of EASA AD 2020-0245 specifies a method of accomplishment of certain actions, replace the text “replace each affected part with a serviceable part in accordance with the instructions of the SB,” with “removal of each affected part and installation of a serviceable part in accordance with paragraphs 3.C. (2) and 3.C. (3) of the SB.”

(3) Where EASA AD 2020-0245 refers to its effective date, this AD requires using the effective date of this AD.

(4) The “Remarks” section of EASA AD 2020-0245 does not apply to this AD.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or responsible Flight Standards Office, as appropriate. If sending information directly to the Large Aircraft Section, International Validation Branch, send it to the attention of the person identified in paragraph (j) of this AD. Information may be emailed to: 9-AVS-AIR-730-AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, Large Aircraft Section, International Validation Branch, FAA; or EASA; or Airbus SAS's EASA Design Organization Approval (DOA). If approved by the DOA, the approval must include the DOA-authorized signature.

(3) Required for Compliance (RC): Except as required by paragraph (i)(2) of this AD, if any service information contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Vladimir Ulyanov, Aerospace Engineer, Large Aircraft Section, International Validation Branch, FAA, 2200 South 216th St., Des Moines, WA 98198; telephone and fax 206-231-3229; email vladimir.ulyanov@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(3) The following service information was approved for IBR on November 18, 2021.

(i) European Union Aviation Safety Agency (EASA) AD 2020-0245, dated November 9, 2020.

(ii) [Reserved]

(4) For EASA AD 2020-0245, contact EASA, Konrad-Adenauer-Ufer 3, 50668 Cologne, Germany; telephone +49 221 8999 000; email ADs@easa.europa.eu; internet www.easa.europa.eu. You may find this EASA AD on the EASA website at https://ad.easa.europa.eu.

(5) You may view this material at the FAA, Airworthiness Products Section, Operational Safety Branch, 2200 South 216th St., Des Moines, WA. For information on the availability of this material at the FAA, call 206-231-3195. This material may be found in the AD docket on the internet at https://www.regulations.gov by searching for and locating Docket No. FAA-2021-0261.

(6) You may view this material that is incorporated by reference at the National Archives and Records Administration (NARA). For information on the availability of this material at NARA, email fr.inspection@nara.gov, or go to: https://www.archives.gov/federal-register/cfr/ibr-locations.html.

Issued on September 22, 2021.
Lance T. Gant,
Director, Compliance & Airworthiness Division, Aircraft Certification Service.

[FR Doc. 2021-22293 Filed 10-13-21; 8:45 am]

BILLING CODE 4910-13-P